DEPARTMENT OF ENERGY

Federal Energy Regulatory Commission

[Project No. 2145-042, Project No. 943-075]

Public Utility District No.1 of Chelan County, Washington; Notice of Availability of Environmental Assessment

March 21, 2002.

In accordance with the National Environmental Policy Act of 1969 and the Federal Energy Regulatory Commission's (Commission) regulations, 18 CFR Part 380 (Order No. 486, 52 F.R. 47910), the Office of Energy Projects has reviewed Public Utility District No.1 of Chelan County's applications for license amendment to install small turbines in fishway attraction water conduits at the Rocky Reach and Rock Island Projects located on the Columbia River in Chelan and Douglas Counties, Washington, and has prepared an Environmental Assessment (EA). The project occupies lands managed by the Bureau of Land Management and the U.S. Forest Service.

The EA contains the staff's analysis of the potential environmental impacts of the proposed amendments and concludes that approval of the proposed amendments with staff's modifications would not constitute a major federal action that would significantly affect the quality of the human environment.

The EA is attached to a Commission order issued on March 14, 2002 for the above applications. Copies of the EA are available for review at the Commission's Public Reference Room, located at 888 First Street, NE., Washington, DC 20426, or by calling (202) 208-1371. The EA may be viewed on the web at http://www.ferc.fed.us/online/rims.htm (call (202) 208-2222 for assistance).

For further information, contact Vince Yearick at (202) 219-3073.

Linwood A. Watson, Jr.,
Deputy Secretary.

[FR Doc. 02-7308 Filed 3-26-02; 8:45 am]

BILLING CODE 6717-01-P